FEDERAL ELECTION COMMISSION

Sunshine Act Meeting

AGENCY: Federal Election Commission.

Date and Time: Tuesday, September 19, 2017 at 10:00 a.m. and its continuation at the conclusion of the open meeting on September 20, 2017.

Place: 999 E Street NW., Washington, DC.

Status: This meeting will be closed to the public.

Items to be Discussed: Compliance matters pursuant to 52 U.S.C. 30109.

* * * * *

Person to Contact for Information: Judith Ingram, Press Officer, Telephone: (202) 694-1220.

Laura E. Sinram,
Deputy Secretary of the Commission.

[FR Doc. 2017-19672 Filed 9-12-17; 4:15 pm]

BILLING CODE 6715-01-P